DEPARTMENT OF THE INTERIOR

National Park Service

[NPS-WASO-NRNHL-19593; PPWOCRADI0, PCU00RP14.R50000]

National Register of Historic Places; Notification of Pending Nominations and Related Actions

AGENCY: National Park Service, Interior.

ACTION: Notice.

SUMMARY: The National Park Service is soliciting comments on the significance of properties nominated before October 10, 2015, for listing or related actions in the National Register of Historic Places.

DATES: Comments should be submitted by November 19, 2015.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before October 10, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

AMERICAN SAMOA

Manu'a District

Tui Manu'a Graves Monument, NW. of jct. of Ta'u Village & Ta'u Island Rds., Ta'u, 15000812

GEORGIA

Muscogee County

Claflin School, 1532 5th Ave., Columbus, 15000813

MICHIGAN

Oceana County

Hart Downtown Historic District, Along S. State St., roughly bounded by Main, Dryden, Water & Lincoln Sts., Hart, 15000814

MISSOURI

St. Louis Independent city

Engine House No. 32, 2000 Washington Ave. & 503 N. 20th St., St. Louis (Independent City), 15000816

MONTANA

Carter County

First National Bank of Ekalaka and Rickard Hardware Store Building, 103 & 105 N. Main St., Ekalaka, 15000815

NEW JERSEY

Hudson County

Saint Ann's Roman Catholic Church and Rectory, 704 Jefferson St., Hoboken, 15000817

NEW YORK

Cayuga County

Dwight, Charles Chauncy, House, 149 North St., Auburn, 15000818

Erie County

The Great Atlantic and Pacific Tea Company Warehouse, 545 Swan St., Buffalo, 15000819

University Presbyterian Church, 3330 Main St., Buffalo, 15000820

Herkimer County

Rice—Dodge—Burgess Farm, 588 NY 51, Cedarville, 15000821

Monroe County

House at 288 Wimbledon Road, 288 Wimbledon Rd., Irondequoit, 15000822

Oneida County

Globe Woolen Company Mills, 805, 809, 811-827 Court & 933 Stark Sts., Utica, 15000823

Schenectady County

Mann, Horace, School, 602 Craig St., Schenectady, 15000824

NORTH DAKOTA

Cass County

Beebe, M.E., Historic District, NE. corner of 3rd Ave., N. & N. 8th St., Fargo, 15000825

OKLAHOMA

Comanche County

Balloon Hanger at Henry Post Army Airfield, 5037 Tucker Rd., Fort Sill, 15000826

PENNSYLVANIA

Chester County

Continental Powder Works at French Creek, General area of Rapps Dam Rd. near Rapps Covered Bridge, East Parkland Township, 15000827

Elk County

Loleta Recreation Area, Along PA 2002 near jct. with Millstone Rd., Millstone Township, 15000828

RHODE ISLAND

Providence County

Elm Tree Plat Historic District, Charlotte & Elinora Sts., Fenner, Harvey & Willett Aves., East Providence, 15000829

Rose Land Park Plat Historic District, Florence St., Roseland Ct., Dartmouth, Princeton & Willett Aves., East Providence, 15000830

Washington County

Ram Point, 77 Watch Hill Rd., Westerly, 15000831

TENNESSEE

Cocke County

English Mountain Fire Lookout Tower, (Tennessee Division of Forestry Fire Lookout Towers MPS) Carson Springs Rd., Chestnut Hill, 15000832

Johnson County

Kettlefoot Fire Lookout Tower, (Tennessee Division of Forestry Fire Lookout Towers MPS) Fire Tower Rd., Mountain City, 15000833

Madison County

Chevy Chase House and First Presbyterian Church Complex, 1573 N. Highland Ave., Jackson, 15000834

TEXAS

Bosque County

Colwick Homestead, (Norwegian Settlement of Bosque County TR) Address Restricted, CLifton, 15000835

Cameron County

McNair House, 39 Sunset Dr., Brownsville, 15000836

Jefferson County

First National Bank of Port Arthur, 501 Proctor St., Port Arthur, 15000837

Lamar State College of Technology Administration Building, 1026 Mirabeau St., Beaumont, 15000838

Sabine County

Lobanillo Swales, (El Camino Real de los Tejas National Historic Trail MPS) Address Restricted, Geneva, 15000839

Tarrant County

Laurence, W.F., Florist Building, 407 W. Magnolia Ave., Fort Worth, 15000840

WEST VIRGINIA

Kanawha County

Summers House, 805 Loudon Heights Rd., Charleston, 15000841

Lincoln County

Lincoln National Bank, 219 Main St., Hamlin, 15000842

A request for removal has been received for the following resources:

TENNESSEE

Davidson County

Fort Nashborough, Riverfront Park on 1st Ave., Nashville, 11000454

Obion County

Central Elementary School, (Union City, Tennessee MPS) 512 East College St., Union City, 01000141

Williamson County

Buford, Spencer, House, (Williamson County MRA) US 31 1/2 mi. S of Critz Ln., Thompsons Station, 88000346

Authority: 60.13 of 36 CFR part 60.

Dated: October 15, 2015.
Roger Reed,
Acting Chief, National Register of Historic Places/National Historic Landmarks Program.

[FR Doc. 2015-28048 Filed 11-3-15; 8:45 am]

BILLING CODE 4312-51-P